DEPARTMENT OF COMMERCE

National Oceanic and Atmospheric Administration

50 CFR Part 635

[I.D. 010203A]

Atlantic Highly Migratory Species Fisheries; Atlantic Bluefin Tuna; Commercial Shark Management Measures

AGENCY: National Marine Fisheries Service (NMFS), National Oceanic and Atmospheric Administration (NOAA), Commerce.

ACTION: Notice of public hearings; request for comments.

SUMMARY: NMFS will conduct four public hearings to receive comments from fishery participants and other members of the public regarding proposed regulations to reduce dead discards of Atlantic bluefin tuna (BFT) in the Atlantic pelagic longline fishery and emergency regulations in the Atlantic shark fisheries that implemented commercial quotas for 2003 and suspended the commercial minimum size limit. NMFS previously published the proposed rule regarding incidental catch requirements of BFT on December 24, 2002. NMFS previously published the emergency rule regarding Atlantic sharks on December 27, 2002.

DATES: Written comments on the proposed rule regarding BFT must be received by 5 p.m. on February 7, 2003. Written comments on the emergency rule regarding Atlantic sharks must be received by 5 p.m. on February 14, 2003. The public hearings will be held from January 22 to January 30, 2003. See SUPPLEMENTARY INFORMATION for specific dates and times.

ADDRESSES: The meetings will be held in Barnegat Light, NJ; Manteo, NC; Treasure Island, FL; and Fairhaven, MA. See SUPPLEMENTARY INFORMATION for specific locations.

FOR FURTHER INFORMATION CONTACT: Brad McHale or Dianne Stephan at 978-281-9260 regarding the proposed rule on BFT and Karyl Brewster-Geisz at 301-713-2347 regarding the emergency rule on commercial shark management measures.

SUPPLEMENTARY INFORMATION: NMFS proposes to amend regulations governing the BFT fishery to reduce discards of BFT in the Atlantic pelagic longline fishery. The intent of these actions is to minimize dead discards of BFT and improve management of the Atlantic pelagic longline fishery, while complying with the National Standards of the Magnuson-Stevens Fishery Conservation and Management Act (Magnuson-Stevens Act) and allowing harvest of BFT consistent with recommendations of the International Commission for the Conservation of Atlantic Tunas. The December 24, 2002, proposed rule (67 FR 78404) contains the background information for this measure and that information is not repeated here.

NMFS issued an emergency rule, effective December 31, 2002, that set the 2003 commercial quotas for large and small coastal sharks, suspended the commercial minimum size limit, and allowed regulations on season-specific quota adjustments and counting dead discards and state landings after a Federal closure against the commercial quotas to go into effect. These regulations are necessary to ensure that the regulations in force are based on the best available science. The December 27, 2002, emergency rule (67 FR 78990) contains the background information for these measures and that information is not repeated here.

Hearing and Meeting Dates, Times, and Locations

The hearings for the proposed and emergency rules will be conducted jointly at the identified locations. NMFS intends to dedicate half of the hearing time to each rule. The public hearing schedule is as follows:

Wednesday, January 22, 2003 - Barnegat Light, NJ, 7 - 9 p.m.

Barnegat Light Fire House

10th Boulevard Street

Long Island Beach

Barnegat Light, NJ 08006

Monday, January 27, 2003 - Manteo, NC, 7 - 9 p.m.

North Carolina Aquarium

Airport Road

Manteo, NC 27954

Tuesday, January 28, 2003 - Treasure Island, FL, 7 - 9 p.m.

Garden Room

City of Treasure Island Community Center

1 Park Place at 106th Avenue

Treasure Island, FL 33706

Thursday, January 30, 2003 - Fairhaven, MA, 7 - 9 p.m.

Holiday Inn Express

110 Middle Street

Fairhaven, MA 02719

Special Accommodations

These public hearings will be physically accessible to people with disabilities. Requests for sign language interpretation or other auxiliary aids should be directed Brad McHale (see FOR FURTHER INFORMATION CONTACT) at least 7 days prior to the hearing.

Dated: January 2, 2003.
Bruce C. Morehead,
Acting Director, Office of Sustainable Fisheries, National Marine Fisheries Service.

[FR Doc. 03-323 Filed 1-7-03; 8:45 am]

BILLING CODE 3510-22-S